FEDERAL RESERVE SYSTEM

Agency Information Collection Activities: Announcement of Board Approval Under Delegated Authority and Submission to OMB

SUMMARY:

Background

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT:

Acting Federal Reserve Board Clearance Officer: Cynthia Ayouch—Division of Research and Statistics, Board of Governors of the Federal Reserve System, Washington, DC 20551 (202-452-3829)

OMB Desk Officer: Shagufta Ahmed—Office of Information and Regulatory Affairs, Office of Management and Budget, New Executive Office Building, Room 10235, Washington, DC 20503.

Final Approval Under OMB Delegated Authority of the Extension for Three Years, Without Revision, of the Following Report

Report title: Recordkeeping Requirements Associated with the Real Estate Lending Standards Regulation for State Member Banks.

Agency form number: Reg H-5.

OMB control number: 7100-0261.

Frequency: Aggregate report, quarterly; policy statement, annually.

Reporters: State member banks.

Estimated annual reporting hours: 16,860 hours.

Estimated average hours per response: Aggregate report: 5 hours; Policy statement: 20 hours.

Number of respondents: 843.

General description of report: This information collection is mandatory pursuant to section 304 of the Federal Deposit Insurance Corporation Improvement Act of 1991 (FDICIA) (12 U.S.C. 1828(o)) which authorizes the Federal Reserve to require the recordkeeping requirements associated with the Board's Regulation H (12 CFR 208.51). Since the information is not collected by the Federal Reserve, no issue of confidentiality under the Freedom of Information Act (FOIA) arises. However, information gathered by the Federal Reserve during examinations of state member banks would be deemed exempt from disclosure under exemption 8 of FOIA. 5 U.S.C. 552(b)(8). In addition, exemptions 4 and 6 of FOIA, (5 U.S.C. 552(b)(4) and (b)(6)) also may apply to certain data (specifically, individual loans identified as in excess of supervisory loan-to-value limits) collected in response to these requirements if gathered by the Federal Reserve, depending on the particular circumstances. These exemptions relate to confidential commercial and financial information, and personal information, respectively. Applicability of these exemptions would be determined on a case-by-case basis.

Abstract: State member banks must adopt and maintain a written real estate lending policy. Also, banks must identify their loans in excess of the supervisory loan-to-value limits and report (at least quarterly) the aggregate amount of the loans to the bank's board of directors.

Current Actions: On November 19, 2010, the Federal Reserve published a notice in the Federal Register (75 FR 70919) requesting public comment for 60 days on the extension, without revision, of Recordkeeping Requirements Associated with the Real Estate Lending Standards Regulation for State Member Banks. The comment period for this notice expired on January 18, 2011. The Federal Reserve did not receive any comments.

Final Approval Under OMB Delegated Authority of the Extension for Three Years, With Minor Revisions, of the Following Reports

1. Report title: Application for Employment with the Board of Governors of the Federal Reserve System.

Agency form numbers: FR 28, FR 28s, FR 28i.

OMB control number: 7100-0181.

Frequency: On Occasion.

Reporters: Employment applicants.

Annual reporting hours: 3,558 hours.

Estimated average hours per response: FR 28: 1 hour; FR 28s: 1 minute; FR 28i: 5 minutes.

Number of respondents: FR 28: 3,500; FR 28s: 2,000; FR 28i: 300.

General description of report: This information collection is required to obtain a benefit and is authorized pursuant to Sections 10 and 11 of the Federal Reserve Act (12 U.S.C. 244 and 248(1)). Information provided will be kept confidential under exemption (b)(6) of the FOIA to the extent that the disclosure of information “would constitute a clearly unwarranted invasion of personal privacy.” 5 U.S.C. 552(b)(6).

Abstract: The Application collects information to determine the qualifications and availability of applicants for employment with the Board such as information on education and training, employment record, military service record, and other information since the time the applicant left high school. Included with the Application are two supplemental questionnaires: (1) The Applicant's Voluntary Self-Identification Form (FR 28s), which collects information on the applicant's gender and ethnic group and (2) The Research Assistant Candidate Survey of Interests (FR 28i), which collects information from candidates applying for Research Assistant positions on their level of interest in economics and related areas.

Current Actions: On November 19, 2010, the Federal Reserve published a notice in the Federal Register (75 FR 70919) requesting public comment for 60 days on the extension, with minor revision, of the Application for Employment with the Board of Governors of the Federal Reserve System. The comment period for this notice expired on January 18, 2011. The Federal Reserve did not receive any comments. The revisions will be implemented as proposed.

2. Report title: Ongoing Intermittent Survey of Households.

Agency form numbers: FR 3016.

OMB control number: 7100-0150.

Frequency: On Occasion.

Reporters: Households and individuals.

Annual reporting hours: 633 hours.

Estimated average hours per response: Division of Research & Statistics, 1.58 minutes; Division of Consumer & Community Affairs, 3 minutes; Other divisions, 5 minutes; and Non-SRC surveys, 90 minutes.

Number of respondents: 500.

General description of report: This information collection is voluntary (12 U.S.C. 225a, 263 and 15 U.S.C. 1691b). No issue of confidentiality normally arises because names and any other characteristics that would permit personal identification of respondents are not reported to the Federal Reserve Board. However, exemption 6 of the FOIA (5 U.S.C. 552(b)(6)) would exempt this information from disclosure.

Abstract: The Federal Reserve uses this voluntary survey to obtain household-based information specifically tailored to the Federal Reserve's policy, regulatory, and operational responsibilities. Currently, the University of Michigan's Survey Research Center (SRC) includes survey questions on behalf of the Federal Reserve in an addendum to their regular monthly Survey of Consumer Attitudes and Expectations. The SRC conducts the survey by telephone with a sample of 500 households and asks questions of special interest to the Federal Reserve intermittently, as needed. The frequency and content of the questions depend on changing economic, regulatory, and legislative developments. The Federal Reserve primarily uses the survey to study consumer financial decisions, attitudes, and payment behavior.

Current Actions: On November 19, 2010, the Federal Reserve published a notice in the Federal Register (75 FR 70919) requesting public comment for 60 days on the extension, with revision, of the Intermittent Survey of Households. The comment period for this notice expired on January 18, 2011. The Federal Reserve did not receive any comments. The revisions will be implemented as proposed.

Board of Governors of the Federal Reserve System, January 26, 2011.
Robert deV. Frierson,
Deputy Secretary of the Board.

[FR Doc. 2011-2083 Filed 1-31-11; 8:45 am]

BILLING CODE 6210-01-P